DEPARTMENT OF COMMERCE

International Trade Administration

[A-570-864]

Pure Magnesium in Granular Form From the People's Republic of China: Rescission of Antidumping Duty Administrative Review

AGENCY: Import Administration, International Trade Administration, Department of Commerce.

DATES: August 4, 2011.

SUMMARY: On December 28, 2010, the U.S. Department of Commerce (“the Department”) published a notice of initiation of an administrative review of the antidumping duty order on pure magnesium in granular form from the People's Republic of China (“PRC”).¹ The review covers one manufacturer/exporter of subject merchandise from the PRC: China Minmetals Non-Ferrous Metals Co., Ltd. (“CMN”). The period of review (“POR”) is November 1, 2009, through October 31, 2010. Following the receipt of a certification of no shipments from CMN and supporting evidence, we notified all interested parties of the Department's intent to rescind this review and provided an opportunity to comment on the rescission.² We received no comments. Therefore, we are rescinding this administrative review.

¹ See Initiation of Antidumping and Countervailing Duty Administrative Reviews and Revocation in Part, 75 FR 81565 (December 28, 2010) (“Initiation”).

² See Memorandum to the File, “Intent to Rescind the 2009-2010 Antidumping Duty Administrative Review of Pure Magnesium in Granular Form from the People's Republic of China—A-570-864,” dated June 15, 2011 (“Intent to Rescind Memorandum”).

FOR FURTHER INFORMATION CONTACT: Laurel LaCivita, AD/CVD Operations, Office 8, Import Administration, International Trade Administration, U.S. Department of Commerce, 14th Street and Constitution Avenue, NW., Washington, DC 20230; telephone: (202) 482-4243.

SUPPLEMENTARY INFORMATION:

Background

On November 1, 2010, the Department published a notice of opportunity to request an administrative review of the antidumping duty order on pure magnesium in granular form from the PRC for the period November 1, 2009, through October 31, 2010.³ On November 30, 2010, the Department received a timely request from U.S. Magnesium LLC (“U.S. Magnesium”), a domestic producer and Petitioner in the underlying investigation of this case, in accordance with 19 CFR 351.213(b), for an administrative review of the antidumping duty order with respect to CMN. On December 28, 2010, in accordance with section 751(a) of the Tariff Act of 1930, as amended (“the Act”), the Department published in the Federal Register a notice of initiation of this antidumping duty administrative review with respect to CMN.⁴ On February 15, 2011, CMN submitted a letter to the Department certifying that it did not export pure magnesium in granular form for consumption in the United States during the POR.⁵

³ See Antidumping or Countervailing Duty Order, Finding, or Suspended Investigation; Opportunity To Request Administrative Review, 75 FR 67079 (November 1, 2010).

⁴ See Initiation, 75 FR at 81569.

⁵ See letter from CMN, “Pure Magnesium in Granular Form from the People's Republic of China—No Sales Certification,” date February 15, 2011.

On March 30, 2011, the Department placed on the record information obtained in response to the Department's “No Shipments Inquiry” to U.S. Customs and Border Protection (“CBP”) concerning imports into the United States of subject merchandise during the POR.⁶ These data indicate that CMN made no entries of subject merchandise during the POR.

⁶ See Memorandum to the File, “Pure Magnesium in Granular Form from the People's Republic of China; Transmittal of U.S. Customs and Border Protection Information to the File,” dated March 30, 2011, at Attachment I.

On June 15, 2011, the Department notified interested parties of its intent to rescind this administrative review and gave parties until June 22, 2010, to provide comments.⁷ We did not receive any comments.

⁷ See Memorandum to the File, “Pure Magnesium in Granular Form from the People's Republic of China: Intent to Rescind the 2009-2010 Antidumping Duty Administrative Review of Pure Magnesium in Granular Form from the People's Republic of China—A-570-864,” dated June 15, 2011.

Scope of the Order

There is an existing antidumping duty order on pure magnesium from the People's Republic of China (PRC). See Notice of Antidumping Duty Orders: Pure Magnesium From the People's Republic of China, the Russian Federation and Ukraine; Notice of Amended Final Determination of Sales at Less Than Fair Value: Antidumping Duty Investigation of Pure Magnesium From the Russian Federation, 60 FR 25691 (May 12, 1995). The scope of this order excludes pure magnesium that is already covered by the existing order on pure magnesium in ingot form, and currently classifiable under item numbers 8104.11.00 and 8104.19.00 of the Harmonized Tariff Schedule of the United States (“HTSUS”).

The scope of this order includes imports of pure magnesium products, regardless of chemistry, including, without limitation, raspings, granules, turnings, chips, powder, and briquettes, except as noted above.

Pure magnesium includes: (1) Products that contain at least 99.95 percent primary magnesium, by weight (generally referred to as “ultra pure” magnesium); (2) products that contain less than 99.95 percent but not less than 99.8 percent primary magnesium, by weight (generally referred to as “pure” magnesium); (3) chemical combinations of pure magnesium and other material(s) in which the pure magnesium content is 50 percent or greater, but less than 99.8 percent, by weight, that do not conform to an “ASTM Specification for Magnesium Alloy” ⁸ (generally referred to as “off specification pure” magnesium); and (4) physical mixtures of pure magnesium and other material(s) in which the pure magnesium content is 50 percent or greater, but less than 99.8 percent, by weight. Excluded from this order are mixtures containing 90 percent or less pure magnesium by weight and one or more of certain non-magnesium granular materials to make magnesium-based reagent mixtures. The non-magnesium granular materials of which the Department is aware used to make such excluded reagents are: lime, calcium metal, calcium silicon, calcium carbide, calcium carbonate, carbon, slag coagulants, fluorspar, nephaline syenite, feldspar, aluminum, alumina (Al2O3), calcium aluminate, soda ash, hydrocarbons, graphite, coke, silicon, rare earth metals/mischmetal, cryolite, silica/fly ash, magnesium oxide, periclase, ferroalloys, dolomitic lime, and colemanite. A party importing a magnesium-based reagent which includes one or more materials not on this list is required to seek a scope clarification from the Department before such a mixture may be imported free of antidumping duties.

⁸ The meaning of this term is the same as that used by the American Society for Testing and Materials in its Annual Book of ASTM Standards: Volume 01.02 Aluminum and Magnesium Alloys.

The merchandise subject to this order is currently classifiable under item 8104.30.00 of the HTSUS. Although the HTSUS subheading is provided for convenience and customs purposes, our written description of the scope of this order is dispositive.

Rescission of the Administrative Review

Based upon the certifications and the evidence on the record, the Department finds CMN's claim of no shipments of subject merchandise to the United States during the POR to be substantiated. Pursuant to 19 CFR 351.213(d)(3), the Department may rescind an administrative review, in whole or with respect to a particular exporter or producer, if it concludes that, during the period covered by the review, there were no entries, exports, or sales of the subject merchandise. Because there were no entries, exports, or sales of the subject merchandise by CMN, the Department is rescinding this review in accordance with 19 CFR 351.213(d)(3). The Department intends to issue assessment instructions to CBP fifteen days after the publication of this notice. Antidumping duties shall be assessed at rates equal to the cash deposit of estimated antidumping duties required at the time of entry, or withdrawal from warehouse, for consumption, in accordance with 19 CFR 351.212(c)(2).

We are issuing and publishing this notice in accordance with sections 751(a)(1) and 777(i) of the Act and 19 CFR 351.213(d)(4).

Dated: July 27, 2011.
Christian Marsh,
Deputy Assistant Secretary for Antidumping and Countervailing Duty Operations.

[FR Doc. 2011-19702 Filed 8-3-11; 8:45 am]

BILLING CODE 3510-DS-P